DEPARTMENT OF TRANSPORTATION

Federal Aviation Administration

Agency Information Collection Activities: Requests for Comments; Clearance of Renewed Approval of Information Collection: Information for the Prevention of Aircraft Collisions on Runways at Towered Airports

AGENCY: Federal Aviation Administration (FAA), DOT.

ACTION: Notice and request for comments.

SUMMARY: In accordance with the Paperwork Reduction Act of 1995, FAA invites public comments about our intention to request the Office of Management and Budget (OMB) approval for to renew an information collection. The Federal Register Notice with a 60-day comment period soliciting comments on the following collection of information was published on May 24, 2013, vol. 78, no. 101, pages 31626-31627. Feedback from surveys conducted under this generic information collection will be used in the prevention of runway collisions and in the medication of the severity and frequency of runway incursions.

DATES: Written comments should be submitted by September 9, 2013.

FOR FURTHER INFORMATION CONTACT: Kathy DePaepe at (405) 954-9362, or by email at: Kathy.DePaepe@faa.gov.

SUPPLEMENTARY INFORMATION: OMB Control Number: 2120-0692.

Title: Information for the Prevention of Aircraft Collisions on Runways at Towered Airports.

Form Numbers: There are no FAA forms associated with this generic collection of information.

Type of Review: Renewal of a generic information collection.

Background: Information to be collected will focus on pilot, controller, or vehicle driver practices and/or feedback on specific runway safety initiatives, such as training programs, Runway Safety Action Team meetings, changes to procedures, changes to infrastructure made to enhance runway safety (such as paint, signs, lights, and markings), or aspects of airport design. Feedback gathered on the perceived effectiveness of specific strategies to prevent runway incursions will be used to refine current intervention strategies and to develop strategies to help reduce the severity and frequency of runway incursions.

Respondents: An estimated 8,900 pilots, aircraft support vehicle drivers, airport/airfield maintenance staff, management, and other personnel engaged in the operations of aircraft or airports.

Frequency: Information will be collected on occasion.

Estimated Average Burden per Response: 10 minutes.

Estimated Total Annual Burden: 1,480 hours.

ADDRESSES: Interested persons are invited to submit written comments on the proposed information collection to the Office of Information and Regulatory Affairs, Office of Management and Budget. Comments should be addressed to the attention of the Desk Officer, Department of Transportation/FAA, and sent via electronic mail to oira_submission@omb.eop.gov, or faxed to (202) 395-6974, or mailed to the Office of Information and Regulatory Affairs, Office of Management and Budget, Docket Library, Room 10102, 725 17th Street NW., Washington, DC 20503.

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

Issued in Washington, DC on August 2, 2013.
Albert R. Spence,
FAA Assistant Information Collection Clearance Officer, IT Enterprises Business Services Division, AES-200.

[FR Doc. 2013-19196 Filed 8-7-13; 8:45 am]

BILLING CODE 4910-13-P